FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011539-010.

Title: Libra/Lykes/TMM Space Charter and Sailing Agreement.

Parties: Companhia Libra de Navegacao; Lykes Lines Limited, LLC; and TMM Lines Limited, LLC.

Synopsis: The modification expands the geographic scope of the agreement to include ports in Colombia and the Dominican Republic, authorizes the parties to operate a second string of vessels under the agreement, increases the number and size of vessels to be used under the agreement, adjusts the parties' space allocations, revises the notice period for resignations, deletes obsolete language, and restates the entire agreement. The parties request expedited review.

Agreement No.: 011701-006.

Title: Pacific East Coast Express Agreement.

Parties: Compania Sud Americana de Vapores S.A., Companhia Libra de Navegacao, Norasia Container Lines Limited, Montemar Maritime S.A., and CSAV Sud Americana de Vapores S.A.

Synopsis: The modification revises the port rotation of the parties' services under the agreement; they will be calling at Miami in lieu of Port Everglades.

Agreement No.: 011852-007.

Title: Maritime Security Discussion Agreement.

Parties: American President Lines, Ltd.; APL Co. Pte Ltd.; Australia-New Zealand Direct Line; China Shipping Container Lines, Co., Ltd.; Canada Maritime; CMA-CGM S.A.; Contship Container Lines; COSCO Container Lines Company, Ltd.; CP Ships (UK) Limited; Evergreen Marine Corp.; Hanjin Shipping Company, Ltd.; Hapag Lloyd Container Linie GmbH; Italia di Navigazione, LLC; Kawasaki Kisen Kaisha Ltd.; Lykes Lines Limited, LLC; A.P. Moller-Maersk A/S, trading under the name of Maersk Sealand; Mitsui O.S.K. Lines, Ltd.; Nippon Yusen Kaisha; Yang Ming Marine Transport Corp.; Safmarine Container Line, NV; TMM Lines Limited, LLC; Zim Israel Navigation Co., Ltd.; Alabama State Port Authority; APM Terminals North America, Inc.; Ceres Terminals, Inc.; Cooper/T. Smith Stevedoring Co., Inc.; Eagle Marine Services Ltd.; Global Terminal & Container Services, Inc.; Howland Hook Container Terminal, Inc.; Husky Terminal & Stevedoring, Inc.; International Shipping Agency; International Transportation Service, Inc.; Lambert's Point Docks Inc.; Long Beach Container Terminal, Inc.; Maersk Pacific Ltd.; Maher Terminals, Inc.; Marine Terminals Corp.; Maryland Port Administration; Massachusetts Port Authority (MASSPORT); Metropolitan Stevedore Co.; P&O Ports North American, Inc.; Port of Tacoma; South Carolina State Ports Authority; Stevedoring Services of America, Inc.; Trans Bay Container Terminal, Inc. TraPac Terminals; Universal Maritime Service Corp.; and Virginia International Terminals.

Synopsis: The amendment adds OOCL (USA) Inc. as a Carrier Class member and Yusen Terminals, Inc. as a Marine Terminal Operator Class member.

Agreement No.: 011881.

Title: Zim/USL Space Charter Agreement.

Parties: U.S. Lines Limited and Zim Israel Navigation Company Ltd.

Synopsis: The agreement authorizes Zim to sell container space to U.S. Lines in the trade between China and the United States Atlantic Coast. The parties request expedited review.

Dated: May 14, 2004.
By Order of the Federal Maritime Commission.
Bryant L. VanBrakle,
Secretary.

[FR Doc. 04-11352 Filed 5-18-04; 8:45 am]

BILLING CODE 6730-01-P